ENVIRONMENTAL PROTECTION AGENCY

[FRL-7408-8]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held December 2-4, 2002 at the Hotel Washington, Washington, DC. The CHPAC was created to advise the Environmental Protection Agency on science, regulations, and other issues relating to children's environmental health.

DATES: Monday, December 2, the Science/Regulatory Work Group and the Smart Growth Work Group will meet; plenary sessions will take place Tuesday, December 3, and Wednesday, December 4.

ADDRESSES: Hotel Washington, 515 15th Street, NW, Washington, DC.

Agenda Items: The meetings of the CHPAC are open to the public. The Science/Regulatory Work Group will meet December 2, from 9 a.m. to 5 p.m. The Smart Growth Workgroup will meet on December 2, from 1 p.m. to 5 p.m. The plenary CHPAC will meet on Tuesday, December 3, from 9 a.m. to 5:30 p.m., with a public comment period at 5:15 p.m., and on Wednesday, December 4, from 8:30 a.m. to 12 p.m.

The plenary session will open with introductions and a review of the agenda and objectives for the meeting. Agenda items include highlights of the Office of Children's Health Protection (OCHP) activities and reports from the Smart Growth Workgroup and the Science and Regulatory Work Group. Other potential agenda items include an EPA Briefing on the Draft Cancer Guidelines and Interim Policy Statement and an informational panel on the National Children's Study.

FOR FURTHER INFORMATION CONTACT: Contact Joanne Rodman, Office of Children's Health Protection, USEPA, MC 1107A, 1200 Pennsylvania Avenue, NW, Washington, DC 20460, (202) 564-2188, rodman.joanne@epa.gov.

Dated: November 8, 2002.
Joanne K. Rodman,
Designated Federal Official.

[FR Doc. 02-29055 Filed 11-14-02; 8:45 am]

BILLING CODE 6560-50-P